DEPARTMENT OF HOMELAND SECURITY

Federal Emergency Management Agency

44 CFR Part 67

[Docket No. FEMA-B-7447]

Proposed Flood Elevation Determinations

AGENCY: Federal Emergency Management Agency (FEMA), Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street, SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet. (NGVD) +Elevation in feet (NAVD): Existing | #Depth in feet above ground. *Elevation in feet. (NGVD) +Elevation in feet (NAVD): Modified
California | Plumas County | Boyle Ravine | Confluence with Nugget Creek | None | +3,409
|  |  | Approximately 625 feet upstream of Alder Street | None | +3,545
|  | Chandler Creek | Confluence with Greenhorn Creek | None | +4,434
|  |  | Approximately 320 feet upstream of Chandler Road | None | +3,464
|  | Clear Stream | Confluence with Spanish Creek | None | +3,404
|  |  | Approximately 2,200 feet upstream of conflunce of Gansner Creek | None | +3,427
|  | Gasner Creek | Confluence with Clear Stream | None | +3,423
|  |  | Approximately 740 feet upstream of Bucks Lake Road | None | +3,497
|  | Greenhorn Creek | Confluence with Spanish Creek | None | +3,401
|  |  | Approximately 1,950 feet upstream of Highway 89/70 | None | +3,494
|  | Mill Creek | Confluence with Spanish Creek | None | +3,401
|  |  | Approximately 2,500 feet upstream of Highway 89/70 | None | +3,555
|  | Nugget Creek | Confluence with Mill Creek | None | +3,402
|  |  | Approximately 200 feet upstream of Nugget Lane | None | +3,455
|  | Spanish Creek | At Oakland Camp Road | None | +3,392
|  |  | Approximately 11,700 feet upstream of Highway 89/70 | None | +3,452
|  | Taylor Creek | Confluence with Greenhorn Creek | None | +3,446
|  |  | Approximately 300 feet upstream of Chandler Road | None | +3,491
|  | Thompson Creek | Confluence with Greenhorn Creek | None | +3,454
|  |  | Approximately 3,400 feet upstream of confluence with Thompson Creek Splitflow | None | +3,548
|  | Thompson Creek Splitflow | Confluence with Thompson Creek | None | +3,488
|  |  | Approximately 2,600 feet upstream of confluence with Thompson Creek | None | +3,493
|  | Unnamed | Confluence with Boyle Ravine | None | +3,410
|  | Tributary to Boyle Ravine | Approximately 150 feet upstream of Highway 89/70 | None | +3,417
|  | Wolf Creek | Approximately 4,500 feet downstream of Greenville Park Road Bridge | None | +3,534
|  |  | Approximately 2 miles upstream of Main Street Bridge | None | +3,640
+ North American Vertical Datum
Maps are available for inspection at the Plumas County Planning Department, 520 Main Street, Room 21, Quincy, California 95971.
Send comments to The Honorable Kenneth Nelson, Chairman, Plumas County Board of Supervisors, 520 Main Street, Room 121, Quincy, California 95971.
Oregon | Durham (City), | Fanno Creek | At confluence with the Tualatin River | *126 | *125
| Washington County |  | At Burlington Northern Railroad | *126 | *125
|  | Tualatin River | At Interstate Highway 5 | *123 | *123
|  |  | At Burlington Northern Railroad (Just upstream of confluence with Fanno Creek) | *126 | *125
*Elevation in feet
Maps are available for inspection at City Hall, 17160 Southwest Upper Boones Ferry Road, Durham, Oregon 97281.
Send comments to The Honorable Gerry Schirado, Mayor, City of Durham, P.O. Box 23483, Durham, Oregon 97281.
Oregon | Tigard (City), | Ash Creek | Confluence with Fanno Creek | *160 | *160
|  |  | Just upstream of Oak Street | *169 | *170
| Washington County | Fanno Creek | At Burlington Northern Railroad | *126 | *126
|  |  | At Southwest Scholls Ferry Road | *162 | *164
|  | Summer Creek | At confluence with Fanno Creek | *157 | *158
|  |  | Just upstream of 135th Avenue | *175 | *176
|  | Tualatin River | At confluence with Fanno Creek | *126 | *125
|  |  | Approximately 1.6 miles upstream of confluence with Fanno Creek | *127 | *127
*Elevation in feet
Maps are available for inspection at the Engineering Department, City Hall, 13125 Southwest Hall Boulevard, Tigard, Oregon 97223.
Send comments to The Honorable James Griffith, Mayor, City of Tigard, 13125 Southwest Hall Boulevard, Tigard, Oregon 97223.
Oregon | Beaverton (City), | Fanno Creek | Just upstream of Southwest Scholls Ferry Road | *163 | *165
| Washington County |  | Approximately 850 feet upstream of Southwest Scholls Ferry Road | *196 | *198
*Elevation in feet
Maps are available for inspection at the Community Development Department, City Hall, 4755 Southwest Griffith Drive, Beaverton, Oregon 97076.
Send comments to The Honorable Rob Drake, Mayor, City of Beaverton, P.O. Box 4755, Beaverton, Oregon 97076.
Oregon | Washington County | Ash Creek | Just upstream of Southwest Hall Boulevard | *170 | *171
|  |  | Just upstream of Hemlock Street | *181 | *181
|  | Fanno Creek | Just upstream of Scholls Ferry Road | *193 | *197
|  |  | Approximately 200 feet upstream of Beaverton-Hillsdale Highway | *244 | *243
*Elevation in feet
Maps are available for inspection at the Department of Land Use and Transportation, 155 North First Avenue, Suite 350, MS 12, Hillsboro, Oregon 97124.
Send comments to The Honorable Tom Brian, Chairman, Washington County Board of Commissioners, 155 North First Avenue, Suite 300, Hillsboro, Oregon 97124.

(Catalog of Federal Domestic Assistance No. 83.100, “Flood Insurance.”)

Dated: July 20, 2004.
David I. Maurstad,
Acting Director, Mitigation Division, Emergency Preparedness and Response Directorate.

[FR Doc. 04-17033 Filed 7-26-04; 8:45 am]

BILLING CODE 9110-12-P